NATIONAL FOUNDATION ON THE ARTS AND THE HUMANITIES

Institute of Museum and Library Services; Sunshine Act Meeting of the National Museum and Library Services Board

AGENCY: Institute of Museum and Library Services (MLS), NFAH.

ACTION: Notice of meeting.

SUMMARY: This notice sets forth the agenda of the forthcoming meeting of the National Museum and Library Services Board. This notice also describes the function of the Board. Notice of the meeting is required under the Sunshine in Government Act.

Time and Date: Monday, September 22, 2007 from 1 p.m. to 4 p.m.

Agenda: Executive Briefing of the Twelfth National Museum and Library Service Board Meeting: 1 p.m.-4 p.m., (closed to the public).

Place: The meetings will be held in the Board room at the Institute of Museum and Library Services. 1800 M Street, NW., 9th Floor, Washington, DC 20036. Telephone: (202) 653-4676.

Time and Date: Tuesday, September 23, 2007 from 1 p.m. to 4 p.m.

Agenda: Twelfth National Museum and Library Services Board Meeting:

I. Welcome

II. Approval of Minutes

III. Financial Update

IV. Legislative Update

V. Board Program: International Issues

VI. Board Update

VII. Adjournment

(Open to the Public)

Place: The meeting will be held in the Board Room at the Institute of Museum and Library Services, 1800 M Street, NW., 9th Floor, Washington, DC 20036. Telephone: (202) 653-4676.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. section 9101 et seq. The Board advises the Director of the Institute on general policies with respect to the duties, powers, and authorities related to Museum and Library Services.

The Executive Briefing session, on Monday, September 22, 2007, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meeting from 1 p.m. until 4 p.m. on Tuesday, September 23, 2007 is open to the public.

If you need special accommodations due to a disability, please contact: Institute of Museum and Library Services, 1800 M Street, NW., 9th Fl., Washington, DC 20036. Telephone: (202) 653-4676; TDD (202) 653-4699 at least seven (7) days prior to the meeting date.

Dated: September 24, 2007/
Kate Fernstrom,
Chief of Staff.

[FR Doc. 07-4976 Filed 10-4-07; 12:57 pm]

BILLING CODE 7036-01-M